DEPARTMENT OF AGRICULTURE

Animal and Plant Health Inspection Service

[Docket No. APHIS-2011-0001]

Notice of Request for Approval of an Information Collection; National Animal Health Monitoring System; Needs Assessments

AGENCY: Animal and Plant Health Inspection Service, USDA.

ACTION: New information collection; comment request.

SUMMARY: In accordance with the Paperwork Reduction Act, this notice announces the Animal and Plant Health Inspection Service's intention to initiate an information collection to support the research and development phase of surveys entitled National Animal Health Monitoring System needs assessments.

DATES: We will consider all comments that we receive on or before May 16, 2011.

ADDRESSES: You may submit comments by either of the following methods:

• Federal eRulemaking Portal: Go to http://www.regulations.gov/fdmspublic/component/main?main=DocketDetail&d=APHIS-2011-0001 to submit or view comments and to view supporting and related materials available electronically.

• Postal Mail/Commercial Delivery: Please send one copy of your comment to Docket No. APHIS-2011-0001, Regulatory Analysis and Development, PPD, APHIS, Station 3A-03.8, 4700 River Road, Unit 118, Riverdale, MD 20737-1238. Please state that your comment refers to Docket No. APHIS-2011-0001.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the Needs Assessment study, contact Mr. Chris Quatrano, Industry Analyst, Centers for Epidemiology and Animal Health, VS, APHIS, 2150 Centre Avenue, Building B MS 2E7, Fort Collins, CO 80526; (970) 494-7207. For copies of more detailed information on the information collection, contact Mrs. Celeste Sickles, APHIS' Information Collection Coordinator, at (301) 851-2908.

SUPPLEMENTARY INFORMATION: Title: National Animal Health Monitoring System; Needs Assessments.

OMB Number: 0579-xxxx.

Type of Request: Approval of a new information collection.

Abstract: Under the Animal Health Protection Act (7 U.S.C. 8301 et seq.), the Animal and Plant Health Inspection Service (APHIS) of the United States Department of Agriculture (USDA) is authorized, among other things, to protect the health of our Nation's livestock and poultry populations by preventing the introduction and interstate spread of serious diseases and pests of livestock and for eradicating such diseases from the United States when feasible. In connection with this mission, APHIS operates the National Animal Health Monitoring System (NAHMS), which collects nationally representative, statistically valid, and scientifically sound data on the prevalence and economic importance of livestock diseases and associated risk factors. These data will be used by the NAHMS program to:

• Identify the highest priority issues to examine during subsequent commodity surveys;

• Understand current knowledge gaps in the industry;

• Determine the proper scope of future NAHMS studies for each commodity;

• Set objectives for upcoming NAHMS studies;

• Increase response rates through the inclusion of important and timely issues; and

• Improve final report quality and relevance to industry/respondent needs.

Collection and dissemination of animal and poultry health data is mandated by 7 U.S.C. 391, the Animal Industry Act of 1884, which established the precursor of APHIS. In connection with the mission, APHIS, Veterinary Services is requesting approval to perform multiple needs assessments to help plan upcoming studies.

The purpose of administering needs assessments prior to the design phase of NAHMS studies is to gather producer, veterinary, and industry representatives' opinions, which help determine the focus and scope of NAHMS' studies. This will help strengthen the NAHMS program through collection of timely and relevant information. Needs assessments ensure that the NAHMS program is driven by producer and industry interests and that the studies and reports produced by NAHMS are meeting the needs of the public. No other entity/source is collecting and analyzing data to identify important information needs to be addressed by NAHMS studies.

Needs assessments may be administered to focus groups, industry groups, veterinary associations, or special interest groups. Assessments may be done in person (focus groups), via U.S. mail or via the Internet. Depending on the specific circumstances of the industry being surveyed and the best method to contact respondents, one or more of these methods may be used.

NAHMS will use the information collected during these needs assessment studies to focus on the objectives of its national studies. Producer, veterinary, and industry representatives' summarized opinions may be published in information sheets announcing the upcoming study and objectives of the study. Participation in all NAHMS studies is voluntary.

We are asking the Office of Management and Budget (OMB) to approve the use of these needs assessment surveys for three years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.740909 hours per response.

Respondents: Focus groups, industry groups, veterinary associations, or special interest groups involved with the swine and dairy industries.

Estimated annual number of respondents: 2,200.

Estimated annual number of responses per respondent: 0.12136.

Estimated annual number of responses: 2,200.

Estimated total annual burden on respondents: 163 hours. (Due to averaging, the total annual burden hours may not equal the product of the annual number of responses multiplied by the reporting burden per response.)

All responses to this notice will be summarized and included in the request for OMB approval. All comments will also become a matter of public record.

Done in Washington, DC, this 9th day of March 2011.
Kevin Shea,
Acting Administrator, Animal and Plant Health Inspection Service.

[FR Doc. 2011-5955 Filed 3-14-11; 8:45 am]

BILLING CODE 3410-34-P